DEPARTMENT OF HOMELAND SECURITY

Federal Emergency Management Agency

44 CFR Part 64

[Docket ID FEMA-2011-0002; Internal Agency Docket No. FEMA-8215]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue their eligibility for the sale of insurance. A notice withdrawing the suspension of the communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain federal assistance no longer available in SFHAs
Region III
Maryland: Baltimore, City of, Independent City | 240087 | December 3, 1971, Emerg; March 15, 1978, Reg; February 2, 2012, Susp. | Feb. 2, 2012 | Feb. 2, 2012.
West Virginia:
Auburn, Town of, Ritchie County | 540262 | April 7, 1975, Emerg; September 24, 1984, Reg; February 2, 2012, Susp. | ......do * | Do.
Bancroft, Town of, Putnam County | 540165 | July 1, 1975, Emerg; December 18, 1985, Reg; February 2, 2012, Susp. | ......do | Do.
Buffalo, Town of, Putnam County | 540166 | July 16, 1975, Emerg; December 18, 1985, Reg; February 2, 2012, Susp. | ......do | Do.
Cairo, Town of, Ritchie County | 540179 | August 27, 1975, Emerg; March 18, 1991, Reg; February 2, 2012, Susp. | ......do | Do.
Eleanor, Town of, Putnam County | 540222 | June 23, 1975, Emerg; February 6, 1984, Reg; February 2, 2012, Susp. | ......do | Do.
Ellenboro, Town of, Ritchie County | 540180 | August 21, 1975, Emerg; August 24, 1984, Reg; February 2, 2012, Susp. | ......do | Do.
Harrisville, Town of, Ritchie County | 540132 | N/A, Emerg; February 7, 2006, Reg; February 2, 2012, Susp. | ......do | Do.
Hurricane, City of, Putnam County | 540167 | July 11, 1975, Emerg; March 4, 1986, Reg; February 2, 2012, Susp. | ......do | Do.
Pennsboro, City of, Ritchie County | 540182 | July 2, 1975, Emerg; September 16, 1988, Reg; February 2, 2012, Susp. | ......do | Do.
Poca, Town of, Putnam County | 540168 | April 17, 1975, Emerg; December 18, 1985, Reg; February 2, 2012, Susp. | ......do | Do.
Pullman, Town of, Ritchie County | 540263 | September 22, 1977, Emerg; September 10, 1984, Reg; February 2, 2012, Susp. | ......do | Do.
Putnam County, Unincorporated Areas | 540164 | May 11, 1976, Emerg; June 18, 1987, Reg; February 2, 2012, Susp. | ......do | Do.
Ritchie County, Unincorporated Areas | 540224 | September 1, 1976, Emerg; January 1, 1991, Reg; February 2, 2012, Susp. | ......do | Do.
Winfield, Town of, Putnam County | 540271 | June 10, 1975, Emerg; December 18, 1985, Reg; February 2, 2012, Susp. | ......do | Do.
Region IV
Florida:
Brooksville, City of, Hernando County | 120333 | October 30, 1974, Emerg; June 1, 1982, Reg; February 2, 2012, Susp. | ......do | Do.
Crescent City, City of, Putnam County | 120408 | November 28, 1975, Emerg; December 18, 1979, Reg; February 2, 2012, Susp. | ......do | Do.
Hernando County, Unincorporated Areas | 120110 | August 27, 1974, Emerg; April 17, 1984, Reg; February 2, 2012, Susp. | ......do | Do.
Interlachen, Town of, Putnam County | 120391 | July 24, 1975, Emerg; December 4, 1979, Reg; February 2, 2012, Susp. | ......do | Do.
Palatka, City of, Putnam County | 120273 | January 20, 1975, Emerg; June 4, 1980, Reg; February 2, 2012, Susp. | ......do | Do.
Pomona Park, Town of, Putnam County | 120418 | July 9, 1976, Emerg; December 4, 1979, Reg; February 2, 2012, Susp. | ......do | Do.
Putnam County, Unincorporated Areas | 120272 | November 15, 1973, Emerg; September 16, 1981, Reg; February 2, 2012, Susp. | ......do | Do.
Weeki Wachee, City of, Hernando County | 120413 | June 30, 1998, Emerg; N/A, Reg; February 2, 2012, Susp. | ......do | Do.
Mississippi:
Coahoma County, Unincorporated Areas | 280038 | August 9, 1974, Emerg; February 1, 1980, Reg; February 2, 2012, Susp. | ......do | Do.
Clarksdale, City of, Coahoma County | 280039 | April 2, 1974, Emerg; March 4, 1980, Reg; February 2, 2012, Susp. | ......do | Do.
Coahoma, Town of, Coahoma County | 285264 | February 26, 2009, Emerg; N/A, Reg; February 2, 2012, Susp. | ......do | Do.
Friar's Point, Town of, Coahoma County | 280040 | August 26, 1975, Emerg; August 19, 1987, Reg; February 2, 2012, Susp. | ......do | Do.
Jonestown, Town of, Coahoma County | 280041 | July 28, 1975, Emerg; September 28, 1979, Reg; February 2, 2012, Susp. | ......do | Do.
Lula, Town of, Coahoma County | 280042 | May 22, 1975, Emerg; August 1, 1986, Reg; February 2, 2012, Susp. | ......do | Do.
Region V
Indiana:
Crawfordsville, City of, Montgomery County | 180171 | March 24, 1975, Emerg; February 1, 1994, Reg; February 2, 2012, Susp. | ......do | Do.
Darlington, Town of, Montgomery County | 180321 | May 1, 1975, Emerg; May 25, 1978, Reg; February 2, 2012, Susp. | ......do | Do.
Montgomery County, Unincorporated Areas | 180445 | June 11, 1997, Emerg; June 1, 1998, Reg; February 2, 2012, Susp. | ......do | Do.
Waynetown, Town of, Montgomery County | 180175 | February 9, 2000, Emerg; N/A, Reg; February 2, 2012, Susp. | ......do | Do.
Michigan:
Allen Park, City of, Wayne County | 260217 | March 23, 1973, Emerg; February 17, 1982, Reg; February 2, 2012, Susp. | ......do | Do.
Brownstown, Charter Township of, Wayne County | 260218 | August 23, 1974, Emerg; August 16, 1982, Reg; February 2, 2012, Susp. | ......do | Do.
Canton, Township of, Wayne County | 260219 | April 14, 1975, Emerg; September 2, 1981, Reg; February 2, 2012, Susp. | ......do | Do.
Dearborn, City of, Wayne County | 260220 | March 9, 1973, Emerg; April 20, 1979, Reg; February 2, 2012, Susp. | ......do | Do.
Dearborn Heights, City of, Wayne County | 260221 | January 12, 1973, Emerg; May 2, 1983, Reg; February 2, 2012, Susp. | ......do | Do.
Detroit, City of, Wayne County | 260222 | February 2, 1973, Emerg; July 2, 1981, Reg; February 2, 2012, Susp. | ......do | Do.
Ecorse, City of, Wayne County | 260223 | August 1, 1973, Emerg; May 1, 1978, Reg; February 2, 2012, Susp. | ......do | Do.
Flat Rock, City of, Wayne County | 260224 | August 15, 1975, Emerg; December 1, 1981, Reg; February 2, 2012, Susp. | ......do | Do.
Gibraltar, City of, Wayne County | 260226 | February 9, 1973, Emerg; June 15, 1979, Reg; February 2, 2012, Susp. | ......do | Do.
Grosse Ile, Township of, Wayne County | 260227 | February 23, 1973, Emerg; August 1, 1980, Reg; February 2, 2012, Susp. | ......do | Do.
Grosse Pointe, City of, Wayne County | 260228 | February 16, 1973, Emerg; September 1, 1988, Reg; February 2, 2012, Susp. | ......do | Do.
Grosse Pointe Farms, City of, Wayne County | 260229 | February 9, 1973, Emerg; December 10, 1982, Reg; February 2, 2012, Susp. | ......do | Do.
Grosse Pointe Park, City of, Wayne County | 260230 | December 8, 1972, Emerg; January 3, 1979, Reg; February 2, 2012, Susp. | ......do | Do.
Grosse Pointe Shores, Village of, Wayne County | 260250 | December 22, 1972, Emerg; January 3, 1979, Reg; February 2, 2012, Susp. | ......do | Do.
Huron, Township of, Wayne County | 260545 | May 28, 1982, Emerg; October 17, 1986, Reg; February 2, 2012, Susp. | ......do | Do.
Inkster, City of, Wayne County | 260232 | February 23, 1973, Emerg; March 2, 1979, Reg; February 2, 2012, Susp. | ......do | Do.
Lincoln Park, City of, Wayne County | 260234 | May 16, 1974, Emerg; November 17, 1982, Reg; February 2, 2012, Susp. | ......do | Do.
Livonia, City of, Wayne County | 260233 | February 16, 1973, Emerg; November 4, 1981, Reg; February 2, 2012, Susp. | ......do | Do.
Northville, City of, Wayne County | 260235 | March 29, 1976, Emerg; September 16, 1981, Reg; February 2, 2012, Susp. | ......do | Do.
Northville, Township of, Wayne County | 260669 | December 23, 1977, Emerg; September 16, 1981, Reg; February 2, 2012, Susp. | ......do | Do.
Plymouth, Charter Township of, Wayne County | 260237 | August 6, 1975, Emerg; March 2, 1981, Reg; February 2, 2012, Susp. | ......do | Do.
Plymouth, City of, Wayne County | 260236 | August 6, 1975, Emerg; February 18, 1981, Reg; February 2, 2012, Susp. | ......do | Do.
Redford, Township of, Wayne County | 260238 | November 26, 1971, Emerg; March 16, 1981, Reg; February 2, 2012, Susp. | ......do | Do.
River Rouge, City of, Wayne County | 260239 | May 12, 1973, Emerg; January 5, 1978, Reg; February 2, 2012, Susp. | ......do | Do.
Riverview, City of, Wayne County | 260240 | October 8, 1976, Emerg; September 16, 1981, Reg; February 2, 2012, Susp. | ......do | Do.
Rockwood, City of, Wayne County | 260241 | April 24, 1973, Emerg; June 15, 1979, Reg; February 2, 2012, Susp. | ......do | Do.
Southgate, City of, Wayne County | 260242 | May 14, 1973, Emerg; September 15, 1978, Reg; February 2, 2012, Susp. | ......do | Do.
Sumpter, Township of, Wayne County | 260243 | September 3, 1976, Emerg; May 5, 1981, Reg; February 2, 2012, Susp. | ......do | Do.
Taylor, City of, Wayne County | 260728 | November 25, 1986, Emerg; November 25, 1986, Reg; February 2, 2012, Susp. | ......do | Do.
Trenton, City of, Wayne County | 260244 | March 30, 1973, Emerg; August 17, 1981, Reg; February 2, 2012, Susp. | ......do | Do.
Wayne, City of, Wayne County | 260245 | April 3, 1975, Emerg; August 15, 1980, Reg; February 2, 2012, Susp. | ......do | Do.
Westland, City of, Wayne County | 260739 | January 22, 1985, Emerg; January 22, 1985, Reg; February 2, 2012, Susp. | ......do | Do.
Woodhaven, City of, Wayne County | 260730 | April 24, 1989, Emerg; April 24, 1989, Reg; February 2, 2012, Susp. | ......do | Do.
Wisconsin:
Douglas County, Unincorporated Areas | 550538 | April 26, 1974, Emerg; February 4, 1981, Reg; February 2, 2012, Susp. | ......do | Do.
Lake Nebagamon, Village of, Douglas County | 550112 | June 5, 1975, Emerg; August 15, 1978, Reg; February 2, 2012, Susp. | ......do | Do.
Oliver, Village of, Douglas County | 550113 | April 17, 1984, Emerg; N/A, Reg; February 2, 2012, Susp. | ......do | Do.
Poplar, Village of, Douglas County | 550114 | September 1, 1976, Emerg; September 1, 1986, Reg; February 2, 2012, Susp. | ......do | Do.
Solon Springs, Village of, Douglas County | 550115 | July 24, 1975, Emerg; August 15, 1978, Reg; February 2, 2012, Susp. | ......do | Do.
Superior, City of, Douglas County | 550116 | November 21, 1973, Emerg; April 3, 1978, Reg; February 2, 2012, Susp. | ......do | Do.
Region VI
Arkansas:
Amity, City of, Clark County | 050303 | July 27, 2011, Emerg; N/A, Reg; February 2, 2012, Susp. | ......do | Do.
Arkadelphia, City of, Clark County | 050029 | August 16, 1974, Emerg; April 15, 1981, Reg; February 2, 2012, Susp. | ......do | Do.
Caddo Valley, Town of, Clark County | 050567 | December 10, 1982, Emerg; May 1, 1985, Reg; February 2, 2012, Susp. | ......do | Do.
Gurdon, City of, Clark County | 050239 | September 8, 1975, Emerg; September 4, 1985, Reg; February 2, 2012, Susp. | ......do | Do.
Kingsland, City of, Cleveland County | 050039 | April 11, 1975, Emerg; October 12, 1982, Reg; February 2, 2012, Susp. | ......do | Do.
Region X
Oregon:
Crook County, Unincorporated Areas | 410050 | February 14, 1975, Emerg; July 17, 1989, Reg; February 2, 2012, Susp. | ......do | Do.
Prineville, City of, Crook County | 410051 | January 30, 1975, Emerg; July 17, 1989, Reg; February 2, 2012, Susp. | ......do | Do.
*do = Ditto.
Code for reading third column: Emerg. —Emergency; Reg. —Regular; Susp. —Suspension.

Dated: January 12, 2012.
David L. Miller,
Associate Administrator, Federal Insurance and Mitigation Administration, Department of Homeland Security, Federal Emergency Management Agency.

[FR Doc. 2012-1103 Filed 1-19-12; 8:45 am]

BILLING CODE 9110-12-P